DEPARTMENT OF ENERGY

Federal Energy Regulatory Commission

[Docket No. CP05-99-000]

Gulf South Pipeline Company, LP; Notice of Application

April 13, 2005.

Take notice that on March 30, 2005, Gulf South Pipeline Company, LP, 20 East Greenway, Houston, Texas 77046, filed in the above referenced docket, an application pursuant to Section 7(b) of the Natural Gas Act (NGA), requesting permission and approval to abandon, in place, the Lafayette Compressor Station in Lafayette Parish, Louisiana, all as more fully set forth in the application which is on file with the Commission and open to public inspection. The filing may also be viewed on the Web at http://www.ferc.gov using the eLibrary link. Enter the docket number excluding the last three digits in the docket number field to access the document. For assistance, please contact FERC Online Support at FERCOnlineSupport@ferc.gov or toll free at (866) 208-3676, or TTY, contact (202) 502-8659.

Specifically, Gulf South explains that the facilities to be abandoned in place, include four 1,100 horsepower reciprocating compressors, the main compressor building, the suction and discharge piping and associated valves, the fin fan coolers and building, the jacket water cooling system (rainwater tanks and facilities), the generator building, the water treatment system and building, the gas cooling and dehydration systems and buildings, and other related plant piping and minor associated structures. Gulf South asserts that the abandonment is necessitated by a change in natural gas markets served by Gulf South in southeast Louisiana and that the proposed abandonment will have no effect on the capacity and services currently provided by Gulf South.

Any questions regarding this application should be directed to J. Kyle Stephens, Director of Certificates, Gulf South Pipeline Company, LP, 20 East Greenway Plaza, Houston, Texas 77046, phone (713) 544-7309.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

The Commission strongly encourages electronic filings of comments, protests, and interventions via the internet in lieu of paper. See 18 CFR 385.2001(a)(1)(iii) and the instructions on the Commission's Web site (http://www.ferc.gov) under the “e-Filing” link.

Comment Date: May 4, 2005.

Linda Mitry,
Deputy Secretary.

[FR Doc. E5-1830 Filed 4-18-05; 8:45 am]

BILLING CODE 6717-01-P